DEPARTMENT OF JUSTICE

Antitrust Division

Notice Pursuant to the National Cooperative Research and Production Act of 1993—Advanced Media Workflow Association, Inc.

Notice is hereby given that, on September 24, 2013, pursuant to Section 6(a) of the National Cooperative Research and Production Act of 1993, 15 U.S.C. 4301 et seq. (“the Act”), Advanced Media Workflow Association, Inc. has filed written notifications simultaneously with the Attorney General and the Federal Trade Commission disclosing changes in its membership. The notifications were filed for the purpose of extending the Act's provisions limiting the recovery of antitrust plaintiffs to actual damages under specified circumstances. Specifically, AudioVisual Preservation Solutions, New York, NY; Chellomedia Direct Programming, B.V., Amsterdam, NETHERLANDS; Syncro Services, Inc., New York, NY; SVT, Stockholm, SWEDEN; George Blood (individual member), Philadelphia, PA; and Chris Dee (individual member), Babylon, NY, have been added as parties to this venture.

Also, Panasonic Corp., Kadoma City, Osaka, JAPAN; National Film Board of Canada, Montreal, CANADA; Al Kovalick (individual member), Santa Clara, CA; and Chris Lacinak (individual member), New York, NY, have withdrawn as parties to this venture. No other changes have been made in either the membership or planned activity of the group research project. Membership in this group research project remains open, and Advanced Media Workflow Association, Inc. intends to file additional written notifications disclosing all changes in membership.

On March 28, 2000, Advanced Media Workflow Association, Inc. filed its original notification pursuant to Section 6(a) of the Act. The Department of Justice published a notice in the Federal Register pursuant to Section 6(b) of the Act on June 29, 2000 (65 FR 40127).

The last notification was filed with the Department on June 21, 2013. A notice was published in the Federal Register pursuant to Section 6(b) of the Act on July 18, 2013 (78 FR 42976).

Patricia A. Brink,
Director of Civil Enforcement, Antitrust Division.

[FR Doc. 2013-26959 Filed 11-8-13; 8:45 am]

BILLING CODE P